DEPARTMENT OF STATE

[Public Notice: 10112]

Nominations for Coordinating Lead Authors, Lead Authors, or Review Editors With Expertise Relevant to the Working Group I, II, and III Contributions to the Intergovernmental Panel on Climate Change (IPCC) Sixth Assessment Report (AR6)

The United States Department of State, in cooperation with the United States Global Change Research Program (USGCRP), seeks nominations for U.S. scientists with requisite expertise to serve as Coordinating Lead Authors, Lead Authors, or Review Editors on the Working Group I, II, and III contributions to the Intergovernmental Panel on Climate Change (IPCC) Sixth Assessment Report (AR6). The outlines for the contributions of Working Groups I, II, and III were adopted at the 46th session of the IPCC Plenary.

Nominations may be submitted at https://contribute.globalchange.gov/ and additional information can be found at http://www.globalchange.gov/notices. This is an Open Call for nominations of U.S. citizens and permanent lawful residents. Author nominations will be collected by the USGCRP. The call for nominations will close on Tuesday, October 17th, 2017, and a nominations package will be transmitted to the IPCC Secretariat on behalf of the U.S. IPCC Focal Point on October 22nd, 2017. Respective IPCC Working Group Bureau will consider nominations of authors for the reports and make final selections with Technical Support Units issuing appointment memos in February 2018.

The United Nations Environment Program (UNEP) and the World Meteorological Organization (WMO) established the IPCC in 1988. In accordance with its mandate, and as reaffirmed in various decisions by the Panel, the major activity of the IPCC is to prepare comprehensive and up-to-date assessments of policy-relevant, scientific, technical, and socio-economic information for understanding the scientific basis of climate change, potential impacts, and options for mitigation and adaptation.

This notice will be published in the Federal Register.

Christopher Allison,
Acting Director, Office of Global Change, Bureau of Oceans and International Environmental and Scientific Affairs, Department of State.

[FR Doc. 2017-19391 Filed 9-12-17; 8:45 am]

BILLING CODE 4710-09-P